DEPARTMENT OF LABOR

Employment and Training Administration

[TA-W-57,343]

IBM OS Systems Support, Royston, GA; Notice of Termination of Investigation

Pursuant to Section 221 of the Trade Act of 1974, as amended, an investigation was initiated on June 9, 2005 in response to a petition filed by a state agency representative on behalf of workers at IBM OS Systems Support, Royston, Georgia.

The petitioner requested that the petition be withdrawn. Consequently, further investigation would serve no purpose, and the investigation has been terminated.

Signed at Washington, DC, this 23rd day of June 2005.
Linda G. Poole,
Certifying Officer, Division of Trade Adjustment Assistance.

[FR Doc. E5-3767 Filed 7-14-05; 8:45 am]

BILLING CODE 4510-30-P